DEPARTMENT OF COMMERCE

National Institute of Standards and Technology

Advisory Committee on Earthquake Hazards Reduction Meeting

AGENCY: National Institute of Standards and Technology, Department of Commerce.

ACTION: Notice of open meeting.

SUMMARY: National Institute of Standards and Technology (NIST)'s Advisory Committee on Earthquake Hazards Reduction (ACEHR or Committee) will hold an open meeting on Tuesday August 20, 2019, from 8:30 a.m. to 5:00 p.m. Eastern Time and Wednesday, August 21, 2019, from 8:30 a.m. to 2:30 p.m. Eastern Time.

DATES: The ACEHR will meet on Tuesday, August 20, 2019, from 8:30 a.m. to 5:00 p.m. Eastern Time and Wednesday, August 21, 2019, from 8:30 a.m. to 2:30 p.m. Eastern Time.

ADDRESSES: The meeting will be held in the Heritage Room, Administration Building 101, at NIST, 100 Bureau Drive, Gaithersburg, Maryland 20899, with an option to participate via teleconference or webinar. Please note admittance instructions under the SUPPLEMENTARY INFORMATION section of this notice.

FOR FURTHER INFORMATION CONTACT: Tina Faecke, Management and Program Analyst, National Earthquake Hazards Reduction Program (NEHRP), Engineering Laboratory, NIST, 100 Bureau Drive, Mail Stop 8604, Gaithersburg, Maryland 20899-8604. Ms. Faecke's email address is tina.faecke@nist.gov and her phone number is (301) 975-5911.

SUPPLEMENTARY INFORMATION:

Authority: Section 103 of the NEHRP Reauthorization Act of 2004 (Public Law 108-360), 42 U.S.C. 7704(a)(5), and the Federal Advisory Committee Act, as amended, 5 U.S.C. App. The Committee is composed of 12 members, appointed by the Director of NIST, who were selected for their established records of distinguished service in their professional community, their knowledge of issues affecting NEHRP, and to reflect the wide diversity of technical disciplines, competencies, and communities involved in earthquake hazards reduction. In addition, the Chairperson of the U.S. Geological Survey Scientific Earthquake Studies Advisory Committee serves as an ex-officio member of the Committee.

Pursuant to the Federal Advisory Committee Act, as amended, 5 U.S.C. App., notice is hereby given that the ACEHR will meet on Tuesday, August 20, 2019, from 8:30 a.m. to 5:00 p.m. Eastern Time and Wednesday, August 21, 2019, from 8:30 a.m. to 2:30 p.m. Eastern Time. The meeting will be open to the public. The primary purpose of this meeting is for the Committee to finalize their 2019 biennial Report on the Effectiveness of the NEHRP. The agenda may change to accommodate Committee business. The final agenda and any meeting materials will be posted on the NEHRP website at http://nehrp.gov/.

Individuals and representatives of organizations who would like to offer comments and suggestions related to the Committee's business are invited to request a place on the agenda. On August 20, 2019, approximately fifteen minutes will be reserved near the beginning of the meeting for public comments and speaking times will be assigned on a first-come, first-serve basis. The amount of time per speaker will be determined by the number of requests received but is likely to be about three minutes each. Questions from the public will not be considered during this period. Speakers who wish to expand upon their oral statements, those who had wished to speak but could not be accommodated on the agenda, and those who were unable to participate are invited to submit written statements to ACEHR, National Institute of Standards and Technology, Mail Stop 8604, 100 Bureau Drive, Gaithersburg, MD 20899, via fax at (301) 975-4032, or electronically by email to tina.faecke@nist.gov.

All visitors to the NIST site are required to pre-register to be admitted. Please submit your full name, estimated time of arrival, email address, and phone number to Tina Faecke by 5:00 p.m. Eastern Time, Tuesday, August 6, 2019. Non-U.S. citizens must submit additional information; please contact Ms. Faecke. Ms. Tina Faecke's email address is tina.faecke@nist.gov, and her phone number is (301) 975-5911. If you wish to participate via teleconference or webinar, please submit your full name, affiliation, and phone number to Ms. Faecke by 5:00 p.m. Eastern Time, Tuesday, August 6, 2019. After pre-registering, participants will be provided with detailed instructions on how to join the teleconference or webinar remotely. For participants attending in person, please note that federal agencies, including NIST, can only accept a state-issued driver's license or identification card for access to federal facilities if such license or identification card is issued by a state that is compliant with the REAL ID Act of 2005 (P.L. 109-13), or by a state that has an extension for REAL ID compliance. NIST currently accepts other forms of federal-issued identification in lieu of a state-issued driver's license. For detailed information please contact Ms. Faecke at (301) 975-5911 or visit: http://www.nist.gov/public_affairs/visitor/.

Kevin A. Kimball,
Chief of Staff.

[FR Doc. 2019-07098 Filed 4-9-19; 8:45 am]

BILLING CODE 3510-13-P